DEPARTMENT OF COMMERCE

Submission for OMB Review; Comment Request

The Department of Commerce will submit to the Office of Management and Budget (OMB) for clearance the following proposal for collection of information under the emergency provisions of the Paperwork Reduction Act (44 U.S.C. chapter 35).

Agency: National Institute of Standards and Technology (NIST).

Title: Technology Innovation Program Application Requirements.

Form Number(s): NIST-1022.

OMB Approval Number: None.

Type of Request: Emergency submission.

Burden Hours: 11,100.

Number of Respondents: 300.

Average Hours Per Response: 37.

Needs and Uses: The Technology Innovation Program (TIP) is a competitive cost sharing program designed to assist U.S. businesses and institutions of higher education or other organizations, such as national laboratories and nonprofit research institutions, to support, promote, and accelerate innovation in the United States through high-risk, high-reward research in areas of critical national need. High-risk, high-reward research is research that:

a. has the potential for yielding transformational results with far-ranging or wide-ranging implications;

b. addresses areas of critical national need that support, promote, and accelerate innovation in the United States and is within NIST's areas of technical competence; and is too novel or spans too diverse a range of disciplines to fare well in the traditional peer-review process.

Affected Public: U.S. businesses and institutions of higher education or other organizations, such as national laboratories and nonprofit research institutions.

Frequency: Annually.

Respondent's Obligation: Required to obtain or retain a benefit.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent by June 20, 2008, to Jasmeet Seehra, OMB Desk Officer, FAX number (202) 395-5806 or via the Internet at Jasmeet_K._Seehra@omb.eop.gov.

Dated: May 22, 2008.
Gwellnar Banks,
Management Analyst, Office of the Chief Information Officer.

[FR Doc. E8-11859 Filed 5-27-08; 8:45 am]

BILLING CODE 3510-13-P